DEPARTMENT OF HOMELAND SECURITY

Coast Guard

33 CFR Part 100

[Docket No. USCG-2011-0595]

Special Local Regulation; Annual Kennewick, Washington, Columbia Unlimited Hydroplane Races

AGENCY: Coast Guard, DHS.

ACTION: Notice of enforcement of regulation.

SUMMARY: The Coast Guard will enforce the special local regulation for the “Annual Kennewick, Washington, Columbia Unlimited Hydroplane Races” from 8:30 a.m. to 7:30 p.m. each day, from July 24, 2015 through July 26, 2015. This action is necessary to assist in minimizing the inherent dangers associated with hydroplane races. During the enforcement period, no person or vessel may enter the regulated area without permission from the Sector Columbia River Captain of the Port.

DATES: The regulation in 33 CFR 100.1303 will be enforced from 8:30 a.m. until 7:30 p.m. on July 24, 2015 through July 26, 2015.

FOR FURTHER INFORMATION CONTACT: If you have questions on this notice, call or email Mr. Ken Lawrenson, Waterways Management Division, MSU Portland, Oregon, Coast Guard; telephone 503-240-9319, email MSUPDXWWM@uscg.mil.

SUPPLEMENTARY INFORMATION: The Coast Guard will enforce the special local regulation for the Annual Kennewick, Washington, Columbia Unlimited Hydroplane Races detailed in 33 CFR 100.1303 from 8:30 a.m. to 7:30 p.m. each day from July 24, 2015 through July 26, 2015.

Under the provisions of 33 CFR 100.1303, a vessel may not enter the regulated area, unless it receives permission from the Coast Guard Patrol Commander. Vessels granted permission to enter the zone by the Patrol Commander shall not exceed minimum wake speed. A succession of sharp, short signals by whistle, siren, or horn from vessels patrolling the area under the direction of the U.S. Coast Guard Patrol Commander shall serve as a signal to stop. Vessels signaled to stop shall stop and comply with orders of the patrol vessel personnel; failure to do so may result in expulsion from the area, citation, or both. The Coast Guard may be assisted by other federal, state, or local law enforcement agencies in enforcing this regulation.

This notice is issued under authority of 33 CFR 100.1303 and 5 U.S.C. 552(a). In addition to this notice in the Federal Register, the Coast Guard will provide the maritime community with notification of this enforcement period via the Local Notice to Mariners.

Dated: April 21, 2015.
D.J. Travers,
Captain, U.S. Coast Guard, Captain of the Port, Sector Columbia River.

[FR Doc. 2015-11441 Filed 5-11-15; 8:45 am]

BILLING CODE 9110-04-P